DEPARTMENT OF ENERGY

Federal Energy Regulatory Commission

Combined Notice of Filings #1

April 14, 2008.

Take notice that the Commission received the following electric corporate filings:

Docket Numbers: EC08-67-000.

Applicants: LS Power Development, LLC, Luminus Management, LLC.

Description: LS Power Development, LLC and Luminus Management, LLC, Joint Application for Approval Under Section 203 of the Federal Power Act and Request for Expedited Review.

Filed Date: 04/08/2008.

Accession Number: 20080410-0086.

Comment Date: 5 p.m. Eastern Time on Tuesday, April 29, 2008.

Docket Numbers: EC08-68-000.

Applicants: Centrica plc, Direct Energy Services, LLC, Great Plains Energy, Custom Energy Holdings, L.L.C., Strategic Energy, L.L.C.

Description: Joint Application for Centrica Plc et al. of the proposed transaction that will result in an indirect transfer of control of Strategic Energy, LLC et al.

Filed Date: 04/08/2008.

Accession Number: 20080410-0085.

Comment Date: 5 p.m. Eastern Time on Tuesday, April 29, 2008.

Take notice that the Commission received the following exempt wholesale generator filings:

Docket Numbers: EG08-57-000.

Applicants: Wolf Ridge Wind, LLC.

Description: Notice of Self Certification of Exempt Wholesale Generator Status of Wolf Ridge Wind, LLC.

Filed Date: 04/08/2008.

Accession Number: 20080408-5010.

Comment Date: 5 p.m. Eastern Time on Tuesday, April 29, 2008.

Take notice that the Commission received the following electric rate filings:

Docket Numbers: ER97-4281-017; ER99-2161-008; ER99-3000-007; ER02-1572-005; ER02-1571-005; ER99-1115-012; ER99-1116-012; ER00-2810-006; ER99-4359-005; ER99-4358-005; ER99-2168-008; ER98-1127-012; ER07-649-002; ER99-2162-008; ER00-2807-006; ER00-2809-006; ER98-1796-011; ER07-1406-003; ER99-4355-005; ER99-4356-005; ER00-3160-007; ER99-4357-005; ER00-2808-007; ER00-2313-007; ER02-2032-005; ER02-1396-005; ER02-1412-005; ER08-666-001; ER00-3718-006; ER99-3637-006; ER07-486-003; ER99-1712-008; ER00-2808-007.

Applicants: NRG Power Marketing Inc.; Arthur Kill Power LLC; Astoria Gas Turbine Power LLC; Bayou Cove Peaking Power LLC; Big Cajun I Peaking Power LLC; Cabrillo Power I LLC; Cabrillo Power II LLC; Conemaugh Power LLC; DEVON POWER LLC; Connecticut Jet Power LLC; El Segundo Power, LLC; EL Segundo Power II LLC; Huntley Power LLC; Indian River Power LLC; Keystone Power LLC; Long Beach Generation LLC; Long Beach Peakers LLC; Louisiana Generating LLC; MIDDLETOWN POWER LLC; Montville Power LLC; NEO Freehold-Gen LLC; Norwalk Power LLC; Vienna Power LLC; NRG Energy Center Paxton LLC; NRG New Jersey Energy Sales LLC; NRG Rockford LLC; NRG Rockford II LLC; NRG Southaven LLC; NRG Sterlington Power LLC; OSWEGO HARBOR POWER LLC; Saguaro Power Company, a Ltd. Partnership; Somerset Power LLC; Vienna Power LLC.

Description: NRG MBR Entities submits notice of non-material change in status etc.

Filed Date: 04/07/2008.

Accession Number: 20080409-0077.

Comment Date: 5 p.m. Eastern Time on Monday, April 28, 2008.

Docket Numbers: ER00-1053-020.

Applicants: Maine Public Service Company.

Description: Maine Public Service Company submits the status of negotiations regarding Maine Public's June 15, 2007 informational filing setting forth the changes open access transmission tariff changes effective June 1, 2007 etc.

Filed Date: 04/07/2008.

Accession Number: 20080410-0033.

Comment Date: 5 p.m. Eastern Time on Monday, April 28, 2008.

Docket Numbers: ER02-1173-004; ER06-1265-001; ER02-1336-004.

Applicants: Front Range Power Company, LLC; Orlando Cogen Ltd LP; Vandolah Power Company, LLC.

Description: Front Range Power Company, LLC et al submits the attached modified rate schedule sheets and Appendix B listing, this filing constitutes a supplement to the December 20, 2004 filing.

Filed Date: 04/09/2008.

Accession Number: 20080410-0082.

Comment Date: 5 p.m. Eastern Time on Wednesday, April 30, 2008.

Docket Numbers: ER08-129-002.

Applicants: Southern Operating Companies.

Description: Southern Companies submit clarification of record and compliance filing.

Filed Date: 04/09/2008.

Accession Number: 20080410-0158.

Comment Date: 5 p.m. Eastern Time on Wednesday, April 30, 2008.

Docket Numbers: ER08-303-002; ER97-4587-007.

Applicants: Williams Gas Marketing, Inc., Williams Generation Company—Hazleton.

Description: Williams Gas Marketing, Inc. and Williams Generation Company—Hazelton's Notice of Change in Status.

Filed Date: 04/11/2008.

Accession Number: 20080411-5150.

Comment Date: 5 p.m. Eastern Time on Friday, May 02, 2008.

Docket Numbers: ER08-603-001.

Applicants: Conectiv Delmarva Generation, LLC.

Description: Conectiv Delmarva Generation, LLC submits an Amended Notice of Succession, Rate Schedule FERC 1.

Filed Date: 04/09/2008.

Accession Number: 20080410-0159.

Comment Date: 5 p.m. Eastern Time on Wednesday, April 30, 2008.

Docket Numbers: ER08-703-001.

Applicants: Nevada Power Company.

Description: Revised page 2 of Attachment D of Nevada Power Company.

Filed Date: 04/08/2008.

Accession Number: 20080409-5021.

Comment Date: 5 p.m. Eastern Time on Friday, April 18, 2008.

Docket Numbers: ER08-803-000.

Applicants: ConAgra Trade Group, Inc.

Description: ConAgra Trade Group Inc. submits their notice of cancellation of its market-based rate schedule etc.

Filed Date: 04/08/2008.

Accession Number: 20080410-0076.

Comment Date: 5 p.m. Eastern Time on Tuesday, April 29, 2008.

Docket Numbers: ER08-804-000.

Applicants: Virginia Electric and Power Company.

Description: Virginia Electric and Power Company dba Dominion Virginia Power submits a Notice of Cancellation and a revised cover sheet to cancel a Standard Large Generator Interconnection Agreement.

Filed Date: 04/08/2008.

Accession Number: 20080410-0077.

Comment Date: 5 p.m. Eastern Time on Tuesday, April 29, 2008.

Docket Numbers: ER08-805-000.

Applicants: Southwest Power Pool, Inc.

Description: Southwest Power Pool, Inc. submits an executed Service Agreement for Network Integration Transmission Service with Associated Electric Coop, Inc.

Filed Date: 04/08/2008.

Accession Number: 20080410-0075.

Comment Date: 5 p.m. Eastern Time on Tuesday, April 29, 2008.

Docket Numbers: ER08-806-000.

Applicants: Midwest Independent Transmission System Operator, Inc.

Description: Midwest Independent Transmission System Operator Inc. submits the First Revised Large Generator Agreement among Summit Wind, LLC, the Midwest ISO and Interstate Power Light and Light Company.

Filed Date: 04/04/2008.

Accession Number: 20080410-0078.

Comment Date: 5 p.m. Eastern Time on Friday, April 25, 2008.

Docket Numbers: ER08-807-000.

Applicants: Southwest Power Pool, Inc.

Description: Southwest Power Pool, Inc. submits revisions to its Open Access Transmission Tariff.

Filed Date: 04/08/2008.

Accession Number: 20080410-0074.

Comment Date: 5 p.m. Eastern Time on Tuesday, April 29, 2008.

Docket Numbers: ER08-808-000.

Applicants: Westar Energy, Inc.

Description: Westar Energy, Inc. submits a Petition for Approval of Settlement Agreement.

Filed Date: 04/08/2008.

Accession Number: 20080410-0080.

Comment Date: 5 p.m. Eastern Time on Tuesday, April 29, 2008.

Docket Numbers: ER08-809-000.

Applicants: Westar Energy, Inc.

Description: Westar Energy Inc. submits Second Revised Sheet 10 and 1 to the Wholesale Electric Service Agreement dated 12/8/87 designated First Revised Rate Schedule FERC 179 with the City of Mindenmines, MI.

Filed Date: 04/08/2008.

Accession Number: 20080410-0081.

Comment Date: 5 p.m. Eastern Time on Tuesday, April 29, 2008.

Docket Numbers: ER08-810-000.

Applicants: PacifiCorp.

Description: PacifiCorp submits First Revised Service Agreement 67 for the provision of Long-Term Firm Point-to-Point Transmission Service with Black Hills Corp.

Filed Date: 04/09/2008.

Accession Number: 20080411-0040.

Comment Date: 5 p.m. Eastern Time on Wednesday, April 30, 2008.

Docket Numbers: ER08-811-000.

Applicants: Atlantic City Electric Company.

Description: Atlantic City of Electric Company submits an executed transmission facilities agreement between it and Public Service Electric and Gas Company designated Original Service Agreement 1877 under the FERC Electric Tariff etc.

Filed Date: 04/09/2008.

Accession Number: 20080411-0041.

Comment Date: 5 p.m. Eastern Time on Wednesday, April 30, 2008.

Docket Numbers: ER08-812-000.

Applicants: California Independent System Operator Corporation.

Description: California Independent System Operator Corp submits the Meter Service Agreement for scheduling Coordinators with the Western Area Power Administration—Desert Southwest Region.

Filed Date: 04/09/2008.

Accession Number: 20080411-0042.

Comment Date: 5 p.m. Eastern Time on Wednesday, April 30, 2008.

Docket Numbers: ER08-813-000.

Applicants: Otter Tail Power Company.

Description: Otter Tail Power Company submits an unexecuted service agreement with Langdon Wind, LLC to be effective 3/10/08.

Filed Date: 04/09/2008.

Accession Number: 20080411-0043.

Comment Date: 5 p.m. Eastern Time on Wednesday, April 30, 2008.

Take notice that the Commission received the following electric securities filings:

Docket Numbers: ES08-34-001.

Applicants: Detroit Edison Company.

Description: Supplemental Information in connection with its pending Application of Authorization of The Detroit Edison Company.

Filed Date: 04/11/2008.

Accession Number: 20080414-5023.

Comment Date: 5 p.m. Eastern Time on Friday, April 25, 2008.

Docket Numbers: ES08-35-001.

Applicants: New York State Electric and Gas Corporation.

Description: Revisions to New York State Electric and Gas Corporation's Application for Supplemental Authorization to Issue Securities.

Filed Date: 04/11/2008.

Accession Number: 20080411-5041.

Comment Date: 5 p.m. Eastern Time on Monday, April 21, 2008.

Docket Numbers: ES08-37-001.

Applicants: Rochester Gas and Electric Corporation.

Description: Revisions to Rochester Gas and Electric Corporation's Application for Supplemental Authorization to Issue Securities.

Filed Date: 04/11/2008.

Accession Number: 20080411-5042.

Comment Date: 5 p.m. Eastern Time on Monday, April 21, 2008.

Docket Numbers: ES08-41-000.

Applicants: El Paso Electric Company.

Description: Application of El Paso Electric Company for Authorization Under Section 204 of the FPA for Transactions Related to Refunding and Reissuing Pollution Control Bonds and Request for Shortened Comment Period.

Filed Date: 04/04/2008.

Accession Number: 20080404-5072.

Comment Date: 5 p.m. Eastern Time on Friday, April 25, 2008.

Take notice that the Commission received the following open access transmission tariff filings:

Docket Numbers: OA08-7-001.

Applicants: American Electric Power Service Corporation.

Description: Order No. 890 OATT 30-Day Compliance Filing of American Electric Power Service Corporation.

Filed Date: 04/09/2008.

Accession Number: 20080409-5099.

Comment Date: 5 p.m. Eastern Time on Wednesday, April 30, 2008.

Docket Numbers: OA07-60-003.

Applicants: Idaho Power Company.

Description: Order No. 890 OATT Compliance Filing of Idaho Power Company Pursuant to March 19, 2008 Order.

Filed Date: 04/11/2008.

Accession Number: 20080411-5137.

Comment Date: 5 p.m. Eastern Time on Friday, May 02, 2008.

Docket Numbers: OA07-95-001.

Applicants: Sierra Pacific Resources Operating Company.

Description: Order No. 890 OATT Attachment C-Available Transfer Capability Compliance Filing of Sierra Pacific Resources Operating Companies.

Filed Date: 04/11/2008.

Accession Number: 20080411-5123.

Comment Date: 5 p.m. Eastern Time on Friday, May 02, 2008.

Docket Numbers: OA08-100-000.

Applicants: Duke Energy Carolinas, LLC.

Description: Order No. 890 OATT Compliance Filing of Duke Energy Carolinas, LLC.

Filed Date: 04/11/2008.

Accession Number: 20080411-5125.

Comment Date: 5 p.m. Eastern Time on Friday, May 02, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Kimberly D. Bose,
Secretary.

[FR Doc. E8-8918 Filed 4-23-08; 8:45 am]

BILLING CODE 6717-01-P